DELAWARE RIVER BASIN COMMISSION

Notice of Commission Meeting and Public Hearing

Notice is hereby given that the Delaware River Basin Commission will hold an informal conference followed by a public hearing on Wednesday, July 17, 2002. The hearing will be part of the Commission's regular business meeting. Both the conference session and business meeting are open to the public and will be held at the Commission offices at 25 State Police Drive, West Trenton, New Jersey.

The conference among the Commissioners and staff will begin at 10 a.m. Topics of discussion will include an update on the Comprehensive Plan (CP); reports on the PCB TMDL development effort; a report on the development of water quality criteria for toxic pollutants; a report on the Flow Management Technical Advisory Committee meeting of June 25; and an update on Flood Advisory Committee activities.

The subjects of the public hearing to be held during the 1 p.m. business meeting include, in addition to the dockets listed below: a resolution correcting paragraph 2.A. of Resolution No. 2002-6 to reflect that the Thermal Release Bank expires on April 30, 2003 and not on October 31, 2002; a resolution amending Docket D-77-110 CP by the addition of a “Designated Unit” to Table A (Revised); and a resolution concerning the declaration of drought emergency issued by the Commission on December 18, 2001.

The dockets scheduled for public hearing are as follows:

1. Holdover Project: Mercer County Improvement Authority D-99-28 CP. A project to construct a surface water intake on Assunpink Creek at Mercer Lake to withdraw 2.6 million gallons per day (mgd) of water. The new intake, in addition to an existing intake that can provide 1.3 mgd, will irrigate the applicant's Mercer Oaks II Golf Course located in West Windsor Township, Mercer County, New Jersey.

2. Conshohocken Borough Authority D-2001-59 CP. A project to rerate a 2.3 mgd sewage treatment plant (STP) to treat 2.35 mgd on an average monthly basis and up to 3 mgd as a maximum monthly flow. The STP will continue to provide high quality secondary treatment and discharge to the Schuylkill River through the existing outfall. The project is located at Elm and Jones Streets in Conshohocken Borough, Montgomery County, Pennsylvania. The plant will continue to serve Conshohocken Borough, plus portions of Whitemarsh and Plymouth Townships, all within Montgomery County.

3. Newark Country Club D-2002-12. A ground water withdrawal project to supply up to 2.1 mg/30 days of water to the applicant's golf course from new Well No.5 in the Christianstead Gneiss Formation, and to increase the existing withdrawal from all wells to 5.0 mg/30 days. The project is located in the Christina River and White Clay Creek watersheds in the City of Newark, New Castle County, Delaware.

4. Bidermann Golf Club D-2002-13. A ground water withdrawal project to supply up to 0.864 mg/30 days of water to the applicant's golf course from new Well No. 5 in the Wissahickon Formation, and to increase the existing withdrawal from all sources to 15.8 mg/30 days. The project is located in the Brandywine Creek watershed in the City of Wilmington, New Castle County, Delaware.

5. Town of Roxbury D-2002-14 CP. A project to export 0.3 mgd of water, half in the form of raw sewage from failing on-lot systems and half as ground water supply, from the Hamlet of Roxbury in the Delaware River Basin to the Hamlet of Grand Gorge in the Mohawk-Hudson River Basin. Both hamlets are located in the Town of Roxbury, Delaware County, New York. The proposed ground water withdrawal and exportation project will replace a collapsed production well (No. 1) in the Roxbury Water District with a new one. The proposed ground water withdrawal from new Well No. 1 of up to 3 mg/30 days will be taken from the Catskill Formation. The raw sewage will be conveyed via force main to the existing NYCDEP Grand Gorge Sewage Treatment Plant located off State Route 23, and following treatment will be discharged to adjacent Bear Creek.

6. Fifer Orchards, Inc. D-2002-20. A ground water withdrawal project to supply up to 51.45 mg/30 days of water to the applicant's orchard from new Wells Nos. 6 and 7, in the Columbia/Choptank and Columbia Formations, respectively, and to limit the existing withdrawal from all sources to 543 mg/30 days. The project is located in the St. Jones River watershed in the City of Wyoming, Kent County, Delaware.

In addition to the public hearing items, the Commission will address the following at its 1 p.m. business meeting: Minutes of the May 31, 2002 business meeting; announcements; a report on Basin hydrologic conditions; a report by the Executive Director; and a report by the Commission's General Counsel, including consideration by the Commission of an agreement reached by the Petitioners in the appeal of Docket No. D-98-11 CP of the Pennsylvania Suburban Water Company (the “Cornog Quarry” project). The meeting will end with an opportunity for public dialogue.

Documents relating to the dockets and other items may be examined at the Commission's offices. Preliminary dockets are available in single copies upon request. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary directly at 609-883-9500 ext. 203 or through the New Jersey Relay Service at 1-800-852-7899 (TTY), to discuss how the Commission may accommodate your needs.

Dated: June 28, 2002.
Pamela M. Bush,
Commission Secretary and Assistant General Counsel.

[FR Doc. 02-16809 Filed 7-3-02; 8:45 am]

BILLING CODE 6360-01-P